TENNESSEE VALLEY AUTHORITY

Privacy Act of 1974; Computer Matching Program

AGENCY: Tennessee Valley Authority.

ACTION: Notice of computer matching program.

SUMMARY: Pursuant to the Privacy Act of 1974 5 U.S.C. 552(a), as amended by the Computer Matching and Privacy Protection Act of 1988 (Pub. L. 100-503), and the Computer Matching and Privacy Protection Amendments of 1990 (Pub. L. 101-508), and the Office of Management and Budget's Guidelines on the Conduct of Matching Programs, notice is hereby given that the Tennessee Valley Authority (TVA) proposes to conduct a computer match program. The program will match United States Department of Labor (DOL), Office of Workers' Compensation Programs (OWCP) records against wages reported to the Tennessee Department of Labor and Workforce Development (TDLWD) to identify individuals receiving both wage replacement benefits and earning wages. This information will be used to identify individuals receiving workers' compensation benefits who have not reported their employment and to assist OWCP in determining the individuals appropriate level of benefits.

EFFECTIVE DATE: This proposed action will become effective June 11, 2001 and the computer matching will proceed accordingly without further notice, unless comments are received which would result in a contrary determination or if the Office of Management and Budget (OMB) or Congress objects thereto. Any public comment must be received before the effective date.

ADDRESSES: Any interested party may submit written comments to Wilma H. McCauley, Privacy Act Officer, TVA, 1101 Market Street (EB 5B), Chattanooga, Tennessee 37402. As a convenience to commenters, TVA will accept public comments transmitted by facsimile at (423) 751-3400 or e-mail at whmccauley@tva.gov. Receipt of FAX or e-mail transmittals will not be acknowledged.

FOR FURTHER INFORMATION CONTACT: W. H. McCauley, TVA Privacy Act Officer, (423) 751-2523.

SUPPLEMENTARY INFORMATION: TVA, OWCP, and the TDLWD intend to conduct a computer matching program for the purposes stated below. This notice meets the publication requirements under subsection (e)(912) of the Privacy Act of 1974, as amended. A copy of the computer matching agreements and a copy of this notice have been transmitted to the OMB, the U.S. House of Representatives, and the U.S. Senate.

Set forth below is a description of the matching program.

Report of Computer Matching Program Between TVA, OWCP, and TDLWD

A. Participating Agencies

TVA is the recipient agency and will coordinate the computer matches with records provided by OWCP and TDLWD for the purpose of the match.

B. Purposes of the Match

The computer matching program involves the U.S. Department of Labor (DOL), Office of Workers' Compensation Programs (OWCP), the Tennessee Valley Authority (TVA), Office of the Inspector General (OIG), and the Tennessee Department of Labor and Workforce Development. The purpose of the matching program is:

To compare beneficiaries receiving (1) workers' compensation benefits under the Federal Employees' Compensation Act (FECA), 5 U.S.C. 8101 et seq., and (2) wages reported to TDLWD. The match will identify beneficiaries receiving for the same period both (1) wage replacement compensation for disability under the FECA and (2) wages from employment. The information will be used to assist OWCP in determining whether the individual who did not correctly report their employment are receiving the appropriate level of benefits.

C. Authority for Conducting Matching Program

The authority for undertaking this match is found in FECA, 5 U.S.C. 8101 et seq.; the Tennessee Valley Authority Act, 16 U.S.C. 831 et seq.; and the Inspector General Act, 5 U.S.C. App.

D. Categories of Individuals and Identification of Records To Be Matched

The DOL system of records is published as DOL/GOVT-1, Office of Workers' Compensation Programs, Federal Employees' Compensation File, 58 FR 49548, 49556, September 23, 1993, amended 59 FR 47361, September 15, 1994. OWCP's file contains relevant data for approximately 2300 individuals who are receiving workers' compensation benefits based on their TVA employment. Records from TDLWD will be included in TVA-31, OIG Investigative Records.

E. Inclusive Dates of the Matching Program

This program will begin 40 days after a copy of this agreement is sent to Congress. The match initially will cover the period January 1, 1998, to December 31, 2000. Thereafter, it will be conducted periodically for 18 months and may be renewed for another 12 months.

Jacklyn J. Stephenson,
Senior Manager, Enterprise Operations, Information Services.

[FR Doc. 01-11871 Filed 5-10-01; 8:45 am]

BILLING CODE 8120-08-P